DEPARTMENT OF ENERGY

Federal Energy Regulatory Commission

Combined Notice of Filings # 1

March 19, 2007.

Take notice that the Commission received the following electric corporate filings:

Docket Numbers: EC07-68-000.

Applicants: Raven One, LLC; Raven Two, LLC; Raven Three, LLC; Constellation Energy Commodities Group.

Description: Raven One, LLC et al. submit an application for order authorizing the disposition of jurisdictional facilities.

Filed Date: 3/14/2007.

Accession Number: 20070316-0085.

Comment Date: 5 p.m. Eastern Time on Wednesday, April 4, 2007.

Take notice that the Commission received the following electric rate filings:

Docket Numbers: ER03-114-004; ER04-183-003.

Applicants: Great Bay Power Marketing, Inc.; Great Bay Hydro Corporation.

Description: Great Bay Power Marketing, Inc. et al submit their amended Rate Tariffs to be included with their Triennial Updated Market Report Analyses submitted on 2/12/07.

Filed Date: 3/15/2007.

Accession Number: 20070319-0035.

Comment Date: 5 p.m. Eastern Time on Thursday, April 5, 2007.

Docket Numbers: ER04-657-008; ER04-994-003; ER04-660-008; ER04-659-008; ER99-3168-007.

Applicants: Mystic I, LLC; Boston Generating, LLC; Mystic Development, LLC; Fore River Development, LLC; Astoria Generating Company, L.P.

Description: Boston Generating, LLC, et al. submit a notification of change in status and request to synchronize triennial filings and on 3/15/07 submit an original signed, notarized affidavit.

Filed Date: 3/13/2007; 3/15/07.

Accession Number: 20070316-0205.

Comment Date: 5 p.m. Eastern Time on Tuesday, April 3, 2007.

Docket Numbers: ER05-1178-009; ER05-1191-009.

Applicants: Gila River Power, L.P.; Union Power Partners, L.P.

Description: Gila River Power, LP and Union Power Partners, LP submit a notice of non-material change in status relating to their upstream ownership structure.

Filed Date: 3/15/2007.

Accession Number: 20070319-0034.

Comment Date: 5 p.m. Eastern Time on Thursday, April 5, 2007.

Docket Numbers: ER06-1488-003.

Applicants: Oklahoma Gas & Electric Company.

Description: Oklahoma Gas and Electric Company submits its First Revised Sheet 92A et al, Third Revised Volume 2, to its OATT pursuant to the Commission Order issued 1/31/07.

Filed Date: 3/06/2007.

Accession Number: 20070316-0206.

Comment Date: 5 p.m. Eastern Time on Tuesday, March 27, 2007.

Docket Numbers: ER07-326-002.

Applicants: California Independent System Operator Corporation.

Description: California Independent System Operator Corp submits its compliance filing, pursuant to FERC's 2/13/07 Order.

Filed Date: 3/15/2007.

Accession Number: 20070319-0024.

Comment Date: 5 p.m. Eastern Time on Thursday, April 5, 2007.

Docket Numbers: ER07-404-001.

Applicants: Florida Power & Light Company.

Description: Florida Power & Light Company submits its Substitute Original Service Agreement 253 to FERC Electric Tariff, 2nd Revised Volume 6, pursuant to FERC's order issued 3/2/07.

Filed Date: 3/14/2007.

Accession Number: 20070316-0091.

Comment Date: 5 p.m. Eastern Time on Wednesday, April 4, 2007.

Docket Numbers: ER07-520-002.

Applicants: Midwest Independent Transmission System Operator, Inc.

Description: Midwest Independent Transmission System Operator, Inc. submits a Substitute First Revised Amended and Restated Interconnection Agreement with the City of Lebanon, Ohio et al.

Filed Date: 3/15/2007.

Accession Number: 20070319-0025.

Comment Date: 5 p.m. Eastern Time on Thursday, April 5, 2007.

Docket Numbers: ER07-620-000.

Applicants: Niagara Mohawk Power Corporation.

Description: Niagara Mohawk Power Corporation dba National Grid submits its First Revised Service Agreement 301 w/ International Paper Company.

Filed Date: 3/14/2007.

Accession Number: 20070316-0197.

Comment Date: 5 p.m. Eastern Time on Wednesday, April 4, 2007.

Docket Numbers: ER07-621-000.

Applicants: Niagara Mohawk Power Corporation.

Description: Niagara Mohawk Power Corp dba National Grid submits an Original Service Agreement 926 with Hollingsworth and Vose.

Filed Date: 3/14/2007.

Accession Number: 20070316-0210.

Comment Date: 5 p.m. Eastern Time on Wednesday, April 4, 2007.

Docket Numbers: ER07-622-000.

Applicants: Niagara Mohawk Power Corporation.

Description: Niagara Mohawk Power Corp dba National Grid submits an Original Service Agreement 927 with Hollingsworth and Vose.

Filed Date: 3/14/2007.

Accession Number: 20070316-0202.

Comment Date: 5 p.m. Eastern Time on Wednesday, April 4, 2007.

Docket Numbers: ER07-623-000.

Applicants: Niagara Mohawk Power Corporation.

Description: Niagara Mohawk Power Corp dba National Grid submits an Original Service Agreement 925 with Hollingsworth and Vose.

Filed Date: 3/14/2007.

Accession Number: 20070316-0201.

Comment Date: 5 p.m. Eastern Time on Wednesday, April 4, 2007.

Docket Numbers: ER07-624-000.

Applicants: Western Systems Power Pool.

Description: Western Systems Power Pool, Inc submits proposed modifications to Section C-3.8 (c) of Service Schedule C of the WSPP Agreement.

Filed Date: 3/9/2007.

Accession Number: 20070316-0200.

Comment Date: 5 p.m. Eastern Time on Friday, March 30, 2007.

Docket Numbers: ER07-625-000.

Applicants: Arizona Public Service Company.

Description: Arizona Public Service Company submits an executed transmission interconnection and operating agreement with with the M-S-R Public Power Agency et al.

Filed Date: 3/13/2007.

Accession Number: 20070316-0199.

Comment Date: 5 p.m. Eastern Time on Tuesday, April 3, 2007.

Docket Numbers: ER07-626-000.

Applicants: American Electric Power Service Corporation.

Description: American Electric Power System submits Fifth Revised Sheet 252 et al to FERC Electric Tariff, Third Revised Volume 6 of its OATT.

Filed Date: 3/14/2007.

Accession Number: 20070316-0198.

Comment Date: 5 p.m. Eastern Time on Wednesday, April 4, 2007.

Docket Numbers: ER07-627-000.

Applicants: American Electric Power Service Corporation.

Description: American Electric Power Service Corp agent for Indiana Michigan Power Co submits its Interconnection and Local Delivery Service Agreement No. 1449 w/ the Joint Operating Group etc.

Filed Date: 3/15/2007.

Accession Number: 20070319-0027.

Comment Date: 5 p.m. Eastern Time on Thursday, April 5, 2007.

Docket Numbers: ER07-629-000.

Applicants: Entergy Services, Inc.

Description: Entergy Arkansas, Inc submits its 2007 Wholesale Formula Rate Update in accordance with the Power Coordination, Interchange and Transmission Service Agreements with Arkansas Electric Coop Corp.

Filed Date: 3/13/2007.

Accession Number: 20070319-0029.

Comment Date: 5 p.m. Eastern Time on Tuesday, April 3, 2007.

Docket Numbers: ER07-630-000.

Applicants: Entergy Services, Inc.

Description: Entergy Arkansas, Inc submits its 2007 Wholesale Formula Rate Update in accordance with the Power Coordination, Interchange and Transmission Service Agreements with City of Osceola, Arkansas.

Filed Date: 3/13/2007.

Accession Number: 20070319-0030.

Comment Date: 5 p.m. Eastern Time on Tuesday, April 3, 2007.

Docket Numbers: ER07-631-000.

Applicants: Portland Generation Electric Company and PacifiCorp.

Description: Portland General Electric Company et al submit an executed version of the South of Allston Transmission Path Allocation Agreement w/ the Dept of Energy, et al.

Filed Date: 3/15/2007.

Accession Number: 20070319-0026.

Comment Date: 5 p.m. Eastern Time on Thursday, April 5, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Philis J. Posey,
Acting Secretary.

[FR Doc. E7-5327 Filed 3-22-07; 8:45 am]

BILLING CODE 6717-01-P